DEPARTMENT OF DEFENSE
Department of the Navy
Meeting of the Chief of Naval Operations (CNO) Executive Panel

AGENCY:
Department of the Navy, DOD.

ACTION:
Notice of closed meeting.

SUMMARY:
The CNO Executive Panel is to report the recommendations of the Naval Special Warfare Study Group to the Chief of Naval Operations. This meeting will consist of discussions relating to Naval Special Warfare and its integration with conventional forces.

DATES:
The meeting will be held on Monday, February 9, 2004, from 1 p.m. to 1:30 p.m.

ADDRESSES:
The meeting will be held at the CNO's office, Room 4E540, 2000 Navy Pentagon, Washington, DC 20350-2000.

FOR FURTHER INFORMATION CONTACT:
Lieutenant Commander Christopher Corgnati, CNO Executive Panel, 4825 Mark Center Drive, Alexandria, VA 22311, (703) 681-4909.

SUPPLEMENTARY INFORMATION:
Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(c)(1) of title 5, United States Code.

Dated: January 27, 2004.
J.T. Baltimore,
Lieutenant Commander, Judge Advocate General's Corps, U.S. Navy, Alternate Federal Register Liaison Officer.

[FR Doc. 04-2048 Filed 1-29-04; 8:45 am]
BILLING CODE 3810-FF-P